Title 3—

The President

Executive Order 13591 of November 23, 2011

Continuance of Certain Federal Advisory Committees

By the authority vested in me as President by the Constitution and the laws of the United States of America, and consistent with the provisions of the Federal Advisory Committee Act, as amended (5 U.S.C. App.), it is hereby ordered as follows:

Section 1. Each advisory committee listed below is continued until September 30, 2013.

(a) Presidential Commission for the Study of Bioethical Issues; Executive Order 13521 (Department of Health and Human Services).

(b) National Council on Federal Labor-Management Relations; Executive Order 13522 (Office of Personnel Management).

(c) President's Board of Advisors on Historically Black Colleges and Universities; Executive Order 13532 (Department of Education).

(d) President's Management Advisory Board; Executive Order 13538 (General Services Administration).

(e) President's Council of Advisors on Science and Technology; Executive Order 13539 (Office of Science and Technology Policy).

(f) Interagency Task Force on Veterans Small Business Development; Executive Order 13540 (Small Business Administration).

(g) State, Local, Tribal, and Private Sector (SLTPS) Policy Advisory Committee; Executive Order 13549, as amended (National Archives and Records Administration).

Sec. 2. The following advisory committee is continued until September 30, 2012: Advisory Group on Prevention, Health Promotion, and Integrative and Public Health; Executive Order 13544 (Department of Health and Human Services).

Sec. 3. Section 6 of Executive Order 13530 of January 29, 2010 (President's Advisory Council on Financial Capability), is amended to read as follows: “Unless extended by the President, the Council shall terminate on January 29, 2013.”

Sec. 4. Notwithstanding the provisions of any other Executive Order, the functions of the President under the Federal Advisory Committee Act that are applicable to the committees listed in sections 1 and 2 of this order shall be performed by the head of the department or agency designated after each committee, in accordance with the guidelines and procedures established by the Administrator of General Services.

THE WHITE HOUSE,

November 23, 2011.

[FR Doc. 2011-30990

Filed 11-29-11; 11:15 am]

Billing code 3295-F2-P